DEPARTMENT OF TRANSPORTATION

Federal Railroad Administration

[Docket Number FRA-2010-0182]

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Henry G. Peterson, a private individual, seeks a waiver of compliance from the requirements of 49 CFR part 223, Safety Glazing Standards, 49 CFR 223.15, Requirements for existing passenger cars. Specifically, Mr. Peterson has petitioned for one lightweight passenger car built in 1950 for the Southern Pacific Railroad as their 10409, now RPCX 8322. Mr. Peterson operates this car on approximately 130 miles of track owned by the Genesee & Wyoming Railroad. This car was purchased by Mr. Peterson in 1993 from Amtrak. There have been no accidents/incidents attributed directly or indirectly to window glazing failures in this equipment while under current ownership. The maximum authorized speed for this train is 45 mph, mostly rural in nature. The car operates in excursion service on two weekends in December with two round trips on Fridays and four round trips on Saturdays and Sundays (20 Polar Express Trips, annual mileage is approximately 800).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by October 24, 2011 will be considered by FRA before final action is taken. Comments received after that date will be considered as far as practicable. All written communications concerning these proceedings are available for examination during regular business hours (9 a.m.- 5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 6, 2011.
Robert C. Lauby,
Deputy Associate Administrator for Regulatory and Legislative Operations.

[FR Doc. 2011-23126 Filed 9-8-11; 8:45 am]

BILLING CODE 4910-06-P